DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the subdivisional lines, and the subdivision of sections 8 and 9, T. 7 S., R. 24 E., Boise Meridian, Idaho was accepted October 11, 2006.

The plat representing the dependent resurvey of portions of the west boundary and the boundaries of certain mineral surveys in unsurveyed sections 6 and 7, and the retracement of a portion of the boundaries of certain mineral surveys in unsurveyed section 6, T. 48 N., R. 5 E., Boise Meridian, Idaho was accepted November 1, 2006.

The plat representing the dependent resurvey of portions of the south boundary and subdivisional lines, and the boundary of Mineral Survey No. 2210, and the subdivision of section 33, T. 4 S., R. 3 W., and the dependent resurvey of portions of the west and north boundaries and subdivisional lines, and boundaries of certain mineral surveys, T. 5 S., R. 3 W., and a portion of the boundary of Mineral Survey No. 1099, T. 5 S., R. 4 W., Boise Meridian, Idaho were accepted November 29, 2006.

The plat representing the dependent resurvey of a portion of the west boundary and a portion of the subdivisional lines, and the subdivision of section 7, T. 11 S., R. 15 E., Boise Meridian, Idaho was accepted December 6, 2006.

The plat representing the dependent resurvey of portions of the south boundary, subdivisional lines, and boundaries of certain mineral surveys, and the subdivision of section 34, T. 48 N., R. 4 E., Boise Meridian, Idaho was accepted December 13, 2006.

This survey was executed at the request of the Bureau of Indian Affairs to meet certain administrative and management purposes. The lands surveyed are:

The plat representing the dependent resurvey of a portion of the west boundary and a portion of the subdivisional lines and the subdivision of section 7, T. 46 N., R. 4 W., Boise Meridian, Idaho was accepted September 29, 2006.

This survey was executed at the request of the National Park Service to meet certain administrative and management purposes.

The lands surveyed are:

The plat representing the dependent resurvey of portions of the subdivisional lines and the subdivision of section 9, T. 7 S., R. 13 E., Boise Meridian, Idaho was accepted October 4, 2006.

Dated: January 9, 2007.
Stanley G. French,
Chief Cadastral Surveyor for Idaho.

[FR Doc. E7-397 Filed 1-12-07; 8:45 am]

BILLING CODE 4310-GG-P